DEPARTMENT OF COMMERCE

Economic Development Administration

13 CFR Part 301

[Docket No.: 080213181-0125-013]

RIN 0610-AA64

Revisions to the EDA Regulations

AGENCY: Economic Development Administration, Department of Commerce.

ACTION: Correcting amendment.

SUMMARY: On January 27, 2010, the Economic Development Administration (“EDA”) published a final rule implementing revisions to its regulations. The final rule responded to all substantive comments received during the public comment period and finalized the rulemaking proceeding in connection with the interim final rule published on October 22, 2008. EDA publishes this rule to correct a heading of a subpart in the regulations that addresses application requirements and evaluation criteria.

DATES: This correction is effective as of March 12, 2010.

FOR FURTHER INFORMATION CONTACT: Hina Shaikh, Office of Chief Counsel, Economic Development Administration, Department of Commerce, Room 7005, 1401 Constitution Avenue, NW., Washington, DC 20230; telephone: (202) 482-4687.

SUPPLEMENTARY INFORMATION: On January 27, 2010 (75 FR 4259), the EDA published a final rule implementing certain revisions to its regulations. EDA is publishing this notice to amend the heading of 13 CFR part 301, subpart E, which in general addresses the application requirements and evaluation criteria for EDA investment assistance. This notice removes the words “Proposal and” in the heading of subpart E of part 301.

EDA makes this change to ensure that the heading accurately reflects the current application process. On October 1, 2008, EDA published a notice in the Federal Register (73 FR 57049) to introduce its Application for Investment Assistance (Form ED-900). Previously, applicants were required to complete and submit a proposal using the Pre-Application for Investment Assistance (Form ED-900P), followed by an Application for Investment Assistance (Form ED-900A), if EDA deemed that the proposed project merited further consideration. The Form ED-900 consolidates all EDA-specific requirements into a single application, and accordingly, effective November 1, 2008, EDA accepts only the Form ED-900, along with specific forms from the Standard Form 424 family. In line with the October 1, 2008 publication, the January 27, 2010 final rule removed references to the Form ED-900P in EDA's regulations, but inadvertently did not change the subpart heading. Accordingly, this notice corrects this error.

Classification

Prior notice and opportunity for public comment are not required for rules concerning public property, loans, grants, benefits, and contracts (5 U.S.C. 553(a)(2)). Because prior notice and an opportunity for public comment are not required pursuant to 5 U.S.C. 553, or any other law, the analytical requirements of the Regulatory Flexibility Act (5 U.S.C. 601 et seq.) are inapplicable. Therefore, a regulatory flexibility analysis has not been prepared.

Executive Order No. 12866

It has been determined that this final rule is significant for purposes of Executive Order 12866.

Congressional Review Act

This final rule is not major under the Congressional Review Act (5 U.S.C. 801 et seq.)

Executive Order No. 13132

Executive Order 13132 requires agencies to develop an accountable process to ensure “meaningful and timely input by State and local officials in the development of regulatory policies that have federalism implications.” “Policies that have federalism implications” is defined in Executive Order 13132 to include regulations that have “substantial direct effects on the States, on the relationship between the national government and the States, or on the distribution of power and responsibilities among the various levels of government.” It has been determined that this final rule does not contain policies that have federalism implications.

Paperwork Reduction Act

This final rule contains collections-of-information subject to review and approval by OMB under the Paperwork Reduction Act (“PRA”). The OMB is required to clear all federally-sponsored data collections pursuant to the PRA. Notwithstanding any other provision of the law, no person is required to respond to, nor shall any person be subject to a penalty for failure to comply with, a collection-of-information subject to the requirements of the PRA, unless that collection-of-information displays a currently valid OMB control number.

List of Subjects in 13 CFR Part 301

Grant administration, Grant programs, Eligibility requirements, Application requirements, Economic distress levels, Investment rates.

Regulatory Text

For reasons stated in the preamble, 13 CFR part 301 is corrected by making the following correcting amendment:

PART 301—ELIGIBILITY, INVESTMENT RATE AND APPLICATION REQUIREMENTS

1. The authority citation for part 301 continues to read as follows:

Authority: 42 U.S.C. 3121; 42 U.S.C. 3141-3147; 42 U.S.C. 3149; 42 U.S.C. 3161; 42 U.S.C. 3175; 42 U.S.C. 3192; 42 U.S.C. 3194; 42 U.S.C. 3211; 42 U.S.C. 3233; Department of Commerce Delegation Order 10-4.

2. Revise the heading to subpart 301 to read as follows:

Subpart E—Application Requirements; Evaluation Criteria

* * * * *

Dated: March 8, 2010.
Otto Barry Bird,
Chief Counsel, Economic Development Administration.

[FR Doc. 2010-5406 Filed 3-11-10; 8:45 am]

BILLING CODE 3510-24-P